DEPARTMENT OF LABOR

Office of the Secretary

Establishing a Minimum Wage for Contractors, Notice of Rate Change in Effect as of January 1, 2016; Correction

AGENCY: Wage and Hour Division, Department of Labor.

ACTION: Notice; correction.

SUMMARY: On September 16, 2015, the Department of Labor (the Department) published a notice to announce the applicable minimum wage rate to be paid to workers performing work on or in connection with Federal contracts covered by Executive Order 13658 (the Executive Order), beginning January 1, 2016. See 80 FR 55646. The published notice omitted Appendix A and Appendix B. Accordingly, this notice corrects the September 16, 2015 notice by publishing Appendix A and Appendix B. Both documents, along with the original notice, are also available on the Wage and Hour Division (WHD) Web site at: http://www.dol.gov/whd/flsa/eo13658/.

FOR FURTHER INFORMATION CONTACT: Robert Waterman, Acting Director, Division of Regulations, Legislation, and Interpretation, Wage and Hour Division, U.S. Department of Labor, Room S-3502, 200 Constitution Avenue NW., Washington, DC 20210; telephone: (202) 693-0406 (this is not a toll-free number). Copies of this notice may be obtained in alternative formats (Large Print, Braille, Audio Tape, or Disc), upon request, by calling (202) 693-0023 (not a toll-free number). TTY/TTD callers may dial toll-free (877) 889-5627 to obtain information or request materials in alternative formats.

SUPPLEMENTARY INFORMATION: On September 16, 2015, the Department published a notice to announce the applicable minimum wage rate to be paid to workers performing work on or in connection with Federal contracts covered by Executive Order 13658, beginning January 1, 2016. See 80 FR 55646. This Notice of Correction publishes appendices omitted in the prior publication. As indicated in the notice published September 16, 2015, Appendix A to the notice provides a comprehensive chart of the Consumer Price Index for Urban Wage Earners and Clerical Workers (CPI-W) (United States city average, all items, not seasonally adjusted) data published by the Bureau of Labor Statistics (BLS) that the Department utilized to calculate the new Executive Order minimum wage rate based on the methodology explained therein. Appendix B to the notice sets forth an updated version of the Executive Order 13658 poster that the Department published with its Final Rule implementing the Executive Order, reflecting the updated wage rates that will be in effect beginning January 1, 2016. See 79 FR 60732-33. Pursuant to 29 CFR 10.29, contractors are required to notify all workers performing on or in connection with a covered contract of the applicable minimum wage rate under the Executive Order. Contractors with employees covered by the Fair Labor Standards Act who are performing on or in connection with a covered contract may satisfy the notice requirement by displaying the poster set forth in Appendix B in a prominent or accessible place at the worksite.

Dated: September 21, 2015.
David Weil,
Wage and Hour Administrator.

Appendix A to Notice: Establishing a Minimum Wage for Contractors, Notice of Rate Change in Effect as of January 1, 2016

Data Used To Determine Executive Order 13658 Minimum Wage Rate Effective January 1, 2016
Data Source: Consumer Price Index for Urban Wage Earners and Clerical Workers (CPI-W)
[United States city average, all items, not seasonally adjusted.]
| Q3 |  |  | Q4 |  |  | Q1 |  |  | Q2 |  |  | Annual average
2013Q3 to 2014Q2 | 230.084 | 230.359 | 230.537 | 229.735 | 229.133 | 229.174 | 230.040 | 230.871 | 232.560 | 233.443 | 234.216 | 234.702 | 231.238
2014Q3 to 2015Q2 | 234.525 | 234.030 | 234.170 | 233.229 | 231.551 | 229.909 | 228.294 | 229.421 | 231.055 | 231.520 | 232.908 | 233.804 | 232.035
Annual Percentage Increase |  |  |  |  |  |  |  |  |  |  |  |  | 0.345%

BILLING CODE 4410-18-P

Appendix B to Notice

[FR Doc. 2015-24412 Filed 9-24-15; 8:45 am]

BILLING CODE 4510-27-C